DEPARTMENT OF JUSTICE

Notice of Lodging of Consent Decree Under the Comprehensive Environmental Response, Compensation, and Liability Act

Notice is hereby given that on September 18, 2006, a proposed consent decree (“Consent Decree”) in United States v. Thomasville Furniture Industries, Inc. et al., Civ. No. 6:05CV00001, was lodged with the United States District Court for the Western District of Virginia.

In this action, the United States sought, under Section 107(a) of the Comprehensive Environmental Response, Compensation, and Liability Act (“CERCLA”), 42 U.S.C. 9607(a), to recover costs incurred by the Environmental Protection Agency (“EPA”) in performing a drum removal action in 1999 at the Buckingham County Landfill Superfund Site (“Site”) in Dillwyn, Virginia from Buckingham County, a political subdivision of the Commonwealth of Virginia, who is the current owner and operator of the Site. Under the terms of the Consent Decree, Buckingham County has agreed to pay $186,952 of EPA's unreimbursed 1999 Drum Removal Costs of $196,791. This represents a 95% recovery of the 1999 Drum Removal Costs. The County's payments will be made in three installments. The first payment of $62,318 will occur 30 days after entry of the Consent Decree. The next payment of $62,317 will occur one year after the entry of the Consent Decree, and the final payment of $62,317 will occur within 2 years of the entry of the Consent Decree. Under the Decree, the Country will receive a covenant not to sue for the 1999 Drum Removal Costs. The proposed settlement addresses past costs only, and thus the Consent Decree reserves all parties' rights with regard to future costs. The attached Consent Decree is consistent with the Superfund statue and is in the public interest.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Thomasville Furniture Industries, Inc. et al., Civ. No. 6:05CV00001. D.J. Ref. 90-11-2-07971.

The Consent Decree may be examined at the Office of the United States Attorney, Western District of Virginia, 105 Franklin Road, SW., Suite 1, Roanoke, VA 24011, and at U.S. EPA Region III, 1650 Arch Street, Philadelphia, PA 19103. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.75 (15 pages at 25 cents per page reproduction cost) payable to the U.S. Treasury or, if by e-mail or fax, forward a check in that amount to the Consent Decree Library at the stated address.

Robert Brook,
Assistant Chief, Environmental Enforcement Section, Environment and Natural Resources Division.

[FR Doc. 06-8298 Filed 9-26-06; 8:45 am]

BILLING CODE 4410-15-M